DEPARTMENT OF TRANSPORTATION

National Highway Traffic Safety Administration

[Docket No. NHTSA-2005-21859; Notice 2]

Toyota Motor North America, Inc., Denial of Petition for Decision of Inconsequential Noncompliance

Toyota Motor North America (Toyota) has determined that certain model year 2003 through 2005 vehicles that it produced do not comply with S5(c)(2) of 49 CFR 571.225, Federal Motor Vehicle Safety Standard (FMVSS) No. 225, “Child restraint anchorage systems.” Pursuant to 49 U.S.C. 30118(d) and 30120(h), Toyota has petitioned for a determination that this noncompliance is inconsequential to motor vehicle safety and has filed an appropriate report pursuant to 49 CFR Part 573, “Defect and Noncompliance Reports.” Notice of receipt of the petition was published, with a 30 day comment period, on July 19, 2005 in the Federal Register (70 FR 41476). NHTSA received one comment, from Advocates for Highway and Auto Safety (Advocates).

Affected are a total of approximately 156,555 model year 2003 to 2005 Toyota Tundra access cab vehicles produced between September 1, 2002 and April 22, 2005. S5(c)(2) of FMVSS No. 225 requires each vehicle that

(i) Has a rear designated seating position and meets the conditions in S4.5.4.1(b) of Standard No. 208 * * * and, (ii) Has an air bag on-off switch meeting the requirements of S4.5.4 of Standard 208 * * * shall have a child restraint anchorage system for a designated passenger seating position in the front seat, instead of a child restraint anchorage system that is required for the rear seat * * *.

The subject vehicles do not have a child restraint lower anchorage in the front seat as required by S5(c)(2).

Toyota believes that the noncompliance is inconsequential to motor vehicle safety and that no corrective action is warranted. Toyota states that it considered whether rear-facing child restraints could be used in the noncompliant vehicles, and “is unaware of any rear-facing child restraints that require lower anchorages in the vehicle.” Toyota further states,

Most, if not all rear facing child restraints (even those with lower anchorage systems), have belt paths which allow the child restraint to be secured properly in the front passenger seat of the subject vehicles utilizing the front passenger seatbelt. We also note that child restraint manufacturers provide instructions with their child seats (even lower anchorage equipped child seats) on how to install their restraint with the seatbelt. In addition, all Toyota Tundra vehicles provide instructions on how to install child restraints with the seatbelt.

The public comment by Advocates in response to the Federal Register notice states that Toyota's rationale “does not obviate the fact that front passenger seating positions were required to be equipped with LATCH [lower anchors and tethers for children] because LATCH systems more readily ensure the proper installation of child restraints and, therefore, are safer than using vehicle seat belts,” as well as being likely to lead to increased child restraint use due to ease of use.

NHTSA agrees with Advocates that the absence of LATCH anchorages compromises the overall level of safety of child restraints. FMVSS No. 225 requires a simple, uniform system for installing child restraints that increases the likelihood of proper installation. Prior to FMVSS No. 225 many child restraints were improperly installed, increasing the safety risk to children riding in the improperly installed child restraints. Therefore, it is reasonable to conclude that noncompliant vehicles do not offer the same level of safety as compliant vehicles because of the increased risk of improper child restraint installation.

Toyota further points out that model year 2000 to 2002 Tundra access cab vehicles have a front passenger airbag on-off switch as standard equipment but not lower anchorage system because they were produced prior to the effective date of the FMVSS No. 225 lower anchorage requirement with which the subject vehicles noncomply. Toyota asserts that,

considering child restraint installation in the front passenger seat, the 2003-2005 MY vehicles (subject vehicles) are no different than the 2000-02 MY vehicles and further, it follows that the subject vehicles are no less safe than the 2000-02 MY vehicles.

Advocates responds by pointing out that the promulgation of FMVSS No. 225 was justified by the additional safety it would provide. “[F]ewer child deaths and many fewer injuries are expected to result from widespread use of the LATCH system. * * * [and] it will result in far fewer children being exposed to the risk of riding in an improperly installed child restraint.” NHTSA agrees with Advocates that the noncompliant vehicles offer a lower level of child passenger safety than those which comply with the requirements of FMVSS No. 225, which is why the standard was promulgated.

Toyota further states that it considered

whether a lower anchorage child restraint can be mistakenly installed in the front passenger seat attempting to utilize the lower anchorage. Upon investigating the seat bight of the subject vehicles, we believe a current vehicle owner or subsequent owner could easily observe that no lower anchorage bars exist. We would also note that there are no portions of the seat frame within the seat bight of the front passenger seat that may be mistaken for lower anchorage bars.

In response to this assertion, Advocates states that it is “beside the point that vehicle owners will not mistakenly attempt to use the nonexistent LATCH system * * * The issue is that the noncompliance * * * denies owners and parents the safer LATCH alternative that is required by law.”

NHTSA agrees that this argument by Toyota is beside the point in terms of consequentiality to safety. Additionally, through NHTSA's child passenger safety working group, many examples of misuse have been presented. Parents who mistakenly believe their vehicles have LATCH (pre-2002 vehicles) have used seatbelt latch plates, drilled holes through the nylon webbing of the seatbelt or seatbelt buckle stalk, and attached seats to the seat support structure or other places within the vehicle that can be hooked to, all in attempts to secure the child restraint using the LATCH system. In this particular case, the owner's manual for the Toyota Tundra provides instruction for installing a child restraint using the LATCH system, even though one is not available. A parent might take an improper action, as described previously, in an attempt to “find” the LATCH system or “create” a LATCH system, resulting in the improper installation of the child restraint. Therefore, the lack of the required LATCH system is consequential to safety.

Finally, Toyota notes that it has not received customer complaints regarding the absence of a front passenger seat child restraint lower anchorage system, nor has it received any reports of a crash, injury or fatality due to this noncompliance. NHTSA does not consider the absence of these reports to be compelling evidence of the inconsequentiality of this noncompliance to safety.

In consideration of the foregoing, NHTSA has decided that the petitioner has not met its burden of persuasion that the noncompliance described is inconsequential to motor vehicle safety. Accordingly, Toyota's petition is hereby denied.

Authority: (49 U.S.C. 30118, 30120; delegations of authority at CFR 1.50 and 501.8).

Issued on: September 19, 2005.
Ronald L. Medford,
Senior Associate Administrator for Vehicle Safety.

[FR Doc. 05-19092 Filed 9-23-05; 8:45 am]

BILLING CODE 4910-59-P